DEPARTMENT OF LABOR

Employment and Training Administration

[TA-W-65,647]

Manitowac Cranes, Shady Grove, PA; Notice of Termination of Investigation

Pursuant to Section 221 of the Trade Act of 1974, as amended, an investigation was initiated on March 20, 2009 in response to a petition filed on behalf of workers of Manitowac Cranes, Shady Grove, Pennsylvania.

The petitioners have requested that the petition be withdrawn. Consequently, the investigation has been terminated.

Signed at Washington, DC, this 27th day of April 2009.
Elliott S. Kushner,
Certifying Officer, Division of Trade Adjustment Assistance.

[FR Doc. E9-11862 Filed 5-20-09; 8:45 am]

BILLING CODE 4510-FN-P